DEPARTMENT OF COMMERCE

Census Bureau

Local Update of Census Addresses (LUCA) Program

ACTION: Proposed information collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 30, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Robert A. LaMacchia, Chief, Geography Division, U.S. Census Bureau, Washington, DC 20233-7400; telephone (301) 763-2131; fax (301) 763-4710; or by e-mail at robert.a.lamacchia@census.gov.

SUPPLEMENTARY INFORMATION:

I. Abstract

The Local Update of Census Addresses (LUCA) Program was developed by the U.S. Census Bureau to meet the requirements of the Census Address List Improvement Act of 1994, Public Law 103-430. The Census Bureau will use the LUCA program to help develop the housing unit and group quarters (e.g., college dormitory, nursing home, correctional facility, etc.) address information that it will need to conduct the 2010 Decennial Census. Under the voluntary LUCA Program, participating governments may review the Census Bureau's confidential list of individual living quarters addresses and provide to the Census Bureau address additions, corrections, deletions, and/or the identification of corrected address counts for census blocks; street and street attribute updates; and legal boundary updates. Governments electing to participate in the LUCA program also provide program contact information, certification of their agreement to maintain the confidentiality of the Census Bureau address information, responses regarding their physical and information technology security capabilities, program option and product media preference information, shipment inventory information, and certification of their return/destruction of materials containing confidential data. The program will be available to tribal, state, and local governments, and the District of Columbia and Puerto Rico (or their designated representatives) in areas for which the Census Bureau performs a precensus address canvassing operation (excluded are sparsely settled areas in the states of Alaska and Maine). The LUCA program includes federally recognized American Indian tribes with reservations and/or off-reservation trust lands, states, and general-purpose local governments, such as cities and townships, for which the Census Bureau reports data. This information collection will occur between August 2007 and April 2008.

II. Method of Collection

The information on address additions, corrections, deletions, and/or the identification of corrected address counts for census blocks is collected, at the participating government's option, in the form of:

a. Handwritten annotations to printed address listings (for governments with 6,000 or fewer addresses); or

b. Electronic data files formatted to Census Bureau specifications; or

c. Electronic data files output by the MAF/TIGER Partnership Software, a desktop computer application supplied free-of-charge to LUCA Program participants that permits the review and update of Census Bureau address and map information.

The information on street and street attribute updates as well as legal boundary updates is collected, at the participating government's option, in the form of:

a. Handwritten annotations on Census Bureau-supplied paper maps; or

b. Electronic updates to Census Bureau-supplied digital shape files; or

c. Shape files output by the MAF/TIGER Partnership Software, a desktop computer application supplied free-of-charge to LUCA Program participants that permits the review and update of Census Bureau address and map information.

The information on the program contacts, certification of agreement to maintain the confidentiality of the Census Bureau address information, physical and information technology security capabilities, program option and product media preferences, shipment inventory, and certification of the return/destruction of materials containing confidential data is collected via the completion of printed paper forms.

III. Data

OMB Number: 0607-0795.

Form Numbers:

D-1668—Registration Form—English

D-1668(PR)(S)—Registration Form—Spanish

D-1669—Confidentiality Agreement Form—English

D-1669(PR)(S)—Confidentiality Agreement Form—Spanish

D-1670—Participation Option/Product Preference Form

D-1670(LTW)—Product Preference Form—Mailed to entities wholly within a federally-recognized American Indian reservation and/or trust land

D-1670(SG)—Participation Option/GIS Preference/County Selection Form—mailed to governors only (state level form)

D-1670(PR)(S)—Participation Option/Product Preference Form—Spanish

D-1670(SG)(PR)(S)—Participation Option/GIS Preference/County Selection Form—mailed to governors only (state level form)

D-1671—Inventory Form—English

D-1671(PR)(S)—Inventory Form—Spanish

D-1674—Return/Destruction Form—English

D-1674(PR)(S)—Return/Destruction Form—Spanish

D-1676—Self-Assessment Checklist—English

D-1676(PR)(S)—Self-Assessment Checklist—Spanish

D-1690(LG)—Address List—local government

D-1690(TG)—Address List—tribal government

D-1690(PR)(S)—Address List—Puerto Rico (Spanish)

D-1691(LG)—Address List Add Page—local government

D-1691(TG)—Address List Add Page—tribal government

D-1691(PR)(S)—Address List Add Page—Puerto Rico (Spanish)

D-1692(LG)—Address Count List—local government

D-1692(TG)—Address Count List—tribal government

D-1692(PR)(S)—Address Count List—Puerto Rico (Spanish)

Type of Review: Reinstatement, with change, of a previously approved collection for which approval has expired.

Affected Public: Tribal, state, and local governments.

Estimated Number of Respondents: 19,780 governments.

Estimated Time Per Response: 196 hours on average; will vary by population size of government.

Estimated Total Annual Burden Hours: 3,909,829.

Estimated Total Annual Cost: $0.

Respondent's Obligation: Voluntary.

Legal Authority: Title 13 U.S.C., Chapter 1, Subchapter 1, Section 16.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 24, 2007.
Gwellnar Banks,
Management Analyst, Office of the Chief Information Officer.

[FR Doc. E7-10361 Filed 5-29-07; 8:45 am]

BILLING CODE 3510-07-P